DEPARTMENT OF DEFENSE

Department of the Army; Corps of Engineers

Intent To Prepare an Environmental Impact Statement for the Southern Beltway Transportation Project From I-79 to the Mon/Fayette Expressway, Washington County, PA

AGENCY: Department of the Army, U.S. Army Corps of Engineers, DOD.

ACTION: Notice of intent.

SUMMARY: The U.S. Army Corps of Engineers (Corps) is issuing this notice to advise the public that an Environmental Impact Statement (EIS) will be prepared for proposed transportation improvements between Interstate 79 (I-79) and the Mon/Fayette Expressway (Turnpike 43), known locally as a Southern Beltway Transportation Project, in Washington County, Pennsylvania.

FOR FURTHER INFORMATION CONTACT: Scott Hans, Acting Chief, Regulatory Branch, Department of the Army, Pittsburgh District Corps of Engineers, William S. Moorhead Federal Building, 1000 Liberty Avenue, Pittsburgh, Pennsylvania 15222-4186, Telephone: (412) 395-7154; or David P. Willis, Environmental Manager, Pennsylvania Turnpike Commission, P.O. Box 67676, Harrisburg, Pennsylvania 17106-7676, Telephone: (717) 939-9551.

SUPPLEMENTARY INFORMATION: The Corps, in cooperation with the Pennsylvania Turnpike Commission, will now prepare an Environmental Impact Statement (EIS) on a proposal for a limited access toll highway in Washington County, south of Pittsburgh, Pennsylvania. The proposed highway would extend from Interstate 79 south of the Allegheny County and Washington County line, easterly to the Mon/Fayette Expressway (Turnpike 43), near Finleyville, Washington County. The study corridor is approximately 19 kilometers (12 miles) long and 2.5 kilometers (1.5 miles) wide. Previously, the Federal Highway Administration (FHWA) served as the lead federal agency, with the Corps as a cooperating agency. The Financial Plan most recently submitted by the Pennsylvania Turnpike Commission to the Southwestern Pennsylvania Commission (SPC), the local Metropolitan Planning Organization, was not considered reasonable by SPC. As a result, the I-79 to Mon/Fayette Expressway Project was not included on SPC's Transportation Improvement Plan (TIP) when it was updated and adopted in July 2007. Subsequently, the FHWA has withdrawn its involvement from the EIS process. In order to advance this project, the Pennsylvania Turnpike Commission has decided to continue project development without federal funding and FHWA oversight. Since this project will require a Section 404 permit from the Corps, the Corps will become the lead federal agency.

The proposed highway is considered necessary to improve the movement of people and goods from the Mon Valley to Interstate 79 in the area south of Pittsburgh. Preliminary studies and public and agency input have indicated that the project needs cannot be met by Transportation System Management (TSM) activities, upgrading existing roadways or mass transit improvements. Several new tolled expressway alternatives are under consideration. The No Build Alternative is also under consideration. Descriptions of these alternatives, the results of the engineering, traffic, and environmental studies, and the environmental impacts of the alternatives will be presented in the Draft Environmental Impact Statement.

A scoping meeting was held on this project on August 18 and 19, 1993 in Washington, Pennsylvania. Federal, state, regional, county, and municipal agency representatives attended and participated in this scoping meeting. In addition, an active public participation program was implemented on this project, including Special Agency Coordination Meetings, special purpose meetings with locally elected officials, Executive Committee Meetings, maintenance of a project website, and implementation of a toll-free phone number. A series of public meetings have also been held to ensure public input and participation. The Draft EIS will be available for public and agency review and comment prior to a public hearing. Public notice will be given of the time and place of the hearing.

To ensure that the full range of issues related to this proposed action are identified and addressed, comments and suggestions are invited from all interested parties. Comments or questions concerning this proposed action and the EIS should be directed to the Corps at the address provided above.

Scott A. Hans,
Acting Chief, Regulatory Branch, Pittsburgh District, U.S. Army Corps of Engineers.

[FR Doc. E7-20812 Filed 10-22-07; 8:45 am]

BILLING CODE 3710-85-P